NUCLEAR REGULATORY COMMISSION

[Docket Nos. 50-282 and 50-306]

Nuclear Management Company, LLC; Correction to Notice of Receipt and Availability of Application for Renewal of Prairie Island Nuclear Generating Plant, Units 1 and 2. Facility Operating Licenses Nos. DPR-42 and DPR-60, for an Additional 20-Year Period

This notice provides corrections to the “Notice of Receipt and Availability of Application for Renewal of Prairie Island Nuclear Generating Plant, Units 1 and 2 Facility Operating Licenses Nos. DPR-42 and DPR-60 for an Additional 20-Year Period,” published on May 6, 2008, in the Federal Register on page 25034 (73 FR 25034).

Corrections

1. Paragraph 1 should read as follows: “The U.S. Nuclear Regulatory Commission (NRC or Commission) has received an application, dated April 11, 2008, from Nuclear Management Company, LLC, filed pursuant to Section 104b of the Atomic Energy Act of 1954, as amended, and Title 10 of the Code of Federal Regulations Part 54 (10 CFR part 54), to renew the operating license for the Prairie Island Nuclear Generating Plant, Units 1 and 2 (PINGP). Renewal of the licenses would authorize the applicant to operate the facilities for an additional 20-year period beyond the period specified in the current operating licenses. The current operating licenses for PINGP (DPR-42 and DPR-60) expire on August 09, 2013, and October 29, 2014, respectively. PINGP, Units 1 and 2, are pressurized-water reactors designed by Westinghouse that are located 28 miles Southeast of Minneapolis, MN. The acceptability of the tendered application for docketing, and other matters including an opportunity to request a hearing, will be the subject of subsequent Federal Register notices.”

2. Paragraph 2 should read as follows: “Copies of the application are available to the public at the Commission's Public Document Room (PDR), located at One White Flint North, 11555 Rockville Pike, Rockville, Maryland 20852 or through the internet from the NRC's Agencywide Documents Access and Management System (ADAMS) Public Electronic Reading Room under Accession Number ML081130663. The ADAMS Public Electronic Reading Room is accessible from the NRC Web site at http://www.nrc.gov/reading-rm/adams.html. In addition, the application is available at http://www.nrc.gov/reactors/operating/licensing/renewal/applications.html. Persons who do not have access to the internet or who encounter problems in accessing the documents located in ADAMS should contact the NRC's PDR reference staff at 1-800-397-4209, extension 4737, or by e-mail at pdr@nrc.gov.”

Dated at Rockville, Maryland, this 19th day of May, 2008.
For the Nuclear Regulatory Commission.
Samson Lee,
Acting Director, Division of License Renewal, Office of Nuclear Reactor Regulation.

[FR Doc. E8-11750 Filed 5-23-08; 8:45 am]

BILLING CODE 7590-01-P